DEPARTMENT OF TRANSPORTATION

Federal Aviation Administration

Agency Information Collection Activities: Requests for Comments; Clearance of Renewed Approval of Information Collection: Aircraft Registration Renewal

AGENCY: Federal Aviation Administration (FAA), DOT

ACTION: Notice and request for comments.

SUMMARY: In accordance with the Paperwork Reduction Act of 1995, FAA invites public comments about our intention to request the Office of Management and Budget (OMB) approval to renew an information collection. The Federal Register Notice with a 60-day comment period soliciting comments on the following collection of information was published on December 22, 2014. The information collected on an Aircraft Registration Renewal Application, AC Form 8050-1B, is used by the FAA to verify and update aircraft registration information collected for an aircraft when it was first registered.

DATES: Written comments should be submitted by May 11, 2015.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson at (202) 267-1416, or by email at: Ronda.Thompson@faa.gov.

SUPPLEMENTARY INFORMATION:

OMB Control Number: 2120-0729

Title: Aircraft Registration Renewal.

Form Numbers: AC Form 8050-1B

Type of Review: Revision of an information collection.

Background: The Federal Register Notice with a 60-day comment period soliciting comments on the following collection of information was published on December 22, 2014 (79 FR 76437). The information collected on an Aircraft Registration Renewal Application (AC Form 8050-1B) is used by the FAA to verify and update the aircraft registration information collected for an aircraft when it was first registered. The updated registration database will then be used by the FAA to monitor and control U.S. airspace and to distribute safety notices and airworthiness directives to aircraft owners.

Respondents: Approximately 95,653 aircraft owners.

Frequency: Information is collected triennially.

Estimated Average Burden per Response: 30 minutes to complete the form manually, 10 minutes to complete the form electronically.

Estimated Total Annual Burden: 23,912 hours.

Issued in Washington, DC on April 2, 2015.
Ronda Thompson,
FAA Information Collection Clearance Officer, IT Enterprises Business Services Division, ASP-110.

[FR Doc. 2015-08122 Filed 4-8-15; 8:45 am]

BILLING CODE 4910-13-P